ENVIRONMENTAL PROTECTION AGENCY

[EPA-HQ-OPPT-2008-0848; FRL-8392-4]

TSCA Chemical Substance Inventory Update; Changing Certain Chemical Substances Identities from Confidential to Non-Confidential

AGENCY: Environmental Protection Agency (EPA).

ACTION: Notice.

SUMMARY: EPA is updating the Toxics Substances Control Act (TSCA) Chemical Substance Inventory (TSCA Inventory) Master File to list 530 chemical substances as non-confidential on the TSCA Inventory that were previously listed as confidential. This action is necessary because these chemical substances no longer qualify for listing as confidential on the TSCA Inventory.

DATES: This update is effective July 22, 2009.

These chemical substances will be listed on public versions of the TSCA Inventory on or after August 3, 2009.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Scott Sherlock, Environmental Assistance Division (7408M), Office Pollution Prevention and Toxics, Environmental Protection Agency, 1200 Pennsylvania Ave., NW., Washington, DC 20460-0001; telephone number: (202) 564-8257; e-mail address: sherlock.scott @epa.gov.

SUPPLEMENTARY INFORMATION:

I. General Information

A. Does this Action Apply to Me?

You may be potentially affected by this action if you manufacture (defined by statute at 15 U.S.C. 2602(7) to include import) chemical substances, including inorganic chemical substances, subject to reporting under TSCA. Potentially affected entities identified by their North American Industrial Classification System (NAICS) codes may include, but are not limited to:

• Chemical manufacturers and importers, including chemical manufacturers and importers of inorganic chemical substances (NAICS codes 325 and 32411). You may also be potentially affected by this action if you are a user of information generated under TSCA.

This listing is not intended to be exhaustive, but rather provides a guide for readers regarding entities likely to be affected by this action. Other types of entities not listed in this unit could also be affected or interested in this action. If you have any questions regarding the applicability of this action to a particular entity, consult the technical person listed under FOR FURTHER INFORMATION CONTACT.

B. How Can I Get Copies of this Document and Other Related Information?

1. Docket. EPA has established a docket for this action under docket identification (ID) number EPA-HQ-OPPT-2008-0848. All documents in the docket are listed in the docket index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr. Information about the TSCA Inventory is available at http://www.epa.gov/opptintr/newchems/pubs/invntory.htm.

II. Background

The TSCA Inventory is a listing of all chemical substances manufactured, imported, or processed for a commercial purpose, which EPA was directed to establish and maintain pursuant to TSCA section 8. Since the initial TSCA Inventory was published, persons intending to manufacture or import a non-exempt chemical substance that is not on the TSCA Inventory have been required to submit premanufacture notices (PMNs) to the Agency under TSCA section 5; see 40 CFR part 720. For more information about the TSCA Inventory and related requirements, go to the TSCA Inventory webpage identified in Unit I.B.2.

The TSCA Inventory implementing regulations in 40 CFR part 710 provide that the manufacturer or importer may claim that the identity of a chemical substance in commerce is CBI. Confidential chemical identities are not listed on public versions of the TSCA Inventory. Chemical identities that are not confidential (i.e., where it is public knowledge that the chemical substance is in commerce) are listed on public versions of the TSCA Inventory.

III. Updating of the Public and Confidential TSCA Inventory Data

When reporting under the TSCA Inventory Update Rule (IUR at 40 CFR part 710), some manufacturers of these 530 chemical substances did not include any claim of confidentiality for the chemical identity of the chemical substance with the IUR submission. These chemical identities were previously listed as confidential on the TSCA Inventory. IUR regulations at 40 CFR 710.38(d) provide that where no claim of confidentiality accompanies IUR information at the time it is submitted to EPA, the Agency may make the information available to the public without further notice to the submitter. By submitting non-CBI IUR reports for previously confidential chemical identities, manufacturers make those chemical identities eligible for inclusion on public versions of the TSCA Inventory.

With this action, EPA is updating the TSCA Inventory Master File to reflect the public status of the identities of these chemical substances. The complete list of these chemical substances is provided in the docket at http://www.regulations.gov. The updated public version of the TSCA Inventory will be available on or after August 3, 2009. For information on how to access the public (also referred to as the non-confidential) version of the TSCA Inventory, go to http://www.epa.gov/opptintr/newchems/pubs/invntory.htm.

List of Subjects

Environmental protection, Chemicals, Hazardous materials, Reporting and recordkeeping requirements, TSCA Inventory.

Dated: July 22, 2009.
Stephen A. Owens,
Assistant Administrator, Office of Prevention, Pesticides and Toxic Substances.

[FR Doc. E9-17944 Filed 7-27-09; 8:45 am]

BILLING CODE 6560-50-S